DEPARTMENT OF THE INTERIOR

National Park Service

[NPS-WASO-NAGPRA-20810; PPWOCRADN0-PCU00RP14.R50000]

Notice of Inventory Completion: Sam Noble Oklahoma Museum of Natural History, Norman, OK

AGENCY: National Park Service, Interior.

ACTION: Notice.

SUMMARY: The Sam Noble Oklahoma Museum of Natural History at the University of Oklahoma has completed an inventory of human remains and associated funerary objects, in consultation with the appropriate Indian tribes or Native Hawaiian organizations, and has determined that there is no cultural affiliation between the human remains and associated funerary objects and any present-day Indian tribes or Native Hawaiian organizations. Representatives of any Indian tribe or Native Hawaiian organization not identified in this notice that wish to request transfer of control of these human remains and associated funerary objects should submit a written request to the Sam Noble Oklahoma Museum of Natural History. If no additional requestors come forward, transfer of control of the human remains and associated funerary objects to the Indian tribes or Native Hawaiian organizations stated in this notice may proceed.

DATES: Representatives of any Indian tribe or Native Hawaiian organization not identified in this notice that wish to request transfer of control of these human remains and associated funerary objects should submit a written request with information in support of the request to the Sam Noble Oklahoma Museum of Natural History at the address in this notice by May 31, 2016.

ADDRESSES: Dr. Marc Levine, Assistant Curator of Archaeology, Sam Noble Oklahoma Museum of Natural History, University of Oklahoma, 2401 Chautauqua Avenue, Norman, OK 73072-7029, telephone 405-325-1994, email mlevine@ou.edu.

SUPPLEMENTARY INFORMATION: Notice is here given in accordance with the Native American Graves Protection and Repatriation Act (NAGPRA), 25 U.S.C. 3003, of the completion of an inventory of human remains and associated funerary objects under the control of the Sam Noble Oklahoma Museum of Natural History. The human remains and associated funerary objects were removed from the following counties in the state of Oklahoma: Bryan, Carter, Coal, Garvin, Marshall, McClain, and Pontotoc.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Sam Noble Oklahoma Museum of Natural History professional staff in consultation with representatives of the Jena Band of Choctaw Indians, the Mississippi Band of Choctaw Indians, The Chickasaw Nation, The Choctaw Nation of Oklahoma, and The Quapaw Tribe of Indians.

History and Description of the Remains

On October 22, 1941, human remains representing, at minimum, two individuals were removed from the Wheeler Site (34Br-47) in Bryan County, OK. The Wheeler Site was excavated by the Works Progress Administration, and the human remains were transferred to the Sam Noble Oklahoma Museum of Natural History on an unknown date. One individual was determined to be between the ages of 15 and 21 of indeterminate sex. The second individual is represented by two small postcranial fragments. Age and sex could not be identified. The date of the site associated with the human remains is unknown. No known individuals were identified. No associated funerary objects are present.

In 1934, human remains representing, at minimum, one individual were removed from the Reynolds Place Site (34Br-0/79) in Bryan County, OK. The human remains were discovered when the landowner, Mr. Sharpe, was plowing. The human remains represent an adult male of undetermined age. Mr. Sharpe donated the human remains to the Museum on January 21, 1942. The date of the site associated with the human remains is unknown. No known individuals were identified. The 41 associated funerary objects are 41 shell beads.

On October 16, 1987, human remains representing, at minimum, one individual, were removed from the Butler Site (34Ca-94/1) in Carter County, OK. The human remains are likely an adult male of at least 20 years of age. The human remains were collected by the Oklahoma City Medical Examiner's Office and transferred to the Museum via the Oklahoma Archaeological Survey at an unknown date. The date of the site associated with the human remains is unknown. No known individuals were identified. The five associated funerary objects are 2 shell beads, 1 fossil shell, and 2 animal bone fragments.

On May 1, 1974, human remains representing, at minimum, one individual were removed from the Foreman Site (34Co-29/1) in Coal County, OK. The site was located near the west side of the highway between Clarita and Tupelo at the point where it crosses the Clear Boggy River. The site was first reported by a student to a professor at Southeastern State College in Durant, OK, on March 12, 1974. Officials from the Oklahoma Archaeological Survey were alerted to the presence of human remains at the site, which had been subject to disturbance by pot hunting and road construction. The fragmentary human remains are of indeterminate sex and age. Archeological assessment indicates that these human remains likely date to the Late Archaic or Woodland period. The human remains were transferred from the Oklahoma Archaeological Survey to the Museum at an unknown date. No known individuals were identified. No associated funerary objects are present.

On an unknown date, human remains representing, at minimum, three individuals were removed from an unknown location (34Gv-0/20) in Garvin County, OK. The human remains were reportedly recovered in a gravel pit near a stream somewhere in Garvin County. The human remains represent one adult male, one probable adult female, and one adult of indeterminate sex. The human remains were donated to the Museum by an unnamed individual on July 26, 1951. The date of the site associated with the human remains is unknown. No known individuals were identified. The two associated funerary objects are a small shell and a fragment of faunal long bone.

In 1942, human remains representing, at minimum, one individual were removed from Coulter Site (34Ma-22) in Marshall County, OK. The human remains were recovered during Works Progress Administration excavations directed by Dr. Forrest Clements. This single individual, represented by one tooth (a right maxillary molar), was an adult of indeterminate sex. The tooth was transferred from the Oklahoma Archaeological Survey to the Museum at an unknown date. The date of the site associated with the human remains is unknown. No known individuals were identified. No associated funerary objects are present.

In 1942, human remains representing, at minimum, one individual were removed from the Quarrels Site (34Ma-24/14) in Marshall County, OK. The site was located on the bank of Little Glasses Creek, which is presently inundated by Lake Texoma. The human remains consisted of a single fragmentary phalanx of an adult of indeterminate sex. The human remains were transferred to the Museum at an unknown date. The date of the site associated with the human remains is unknown. No known individuals were identified. No associated funerary objects are present.

On an unknown date, human remains representing, at minimum, one individual were removed from the Frank Bounds Farm Site (34Ma-0/50) in Marshall County, OK. The human remains, representing an adult of indeterminate sex, were transferred to the Museum sometime before 1995. The date of the site associated with the human remains is unknown. No known individuals were identified. The 20 associated funerary objects consist of 15 pottery sherds and 5 stone tools.

In 1957, human remains representing, at minimum, one individual were removed from site 34Ml-11 in McClain County, OK. The site was located near a small drainage running northeast into the South Canadian River. The human remains were discovered by a road survey conducted as part of a Federal Highway Administration Project. The human remains are highly fragmented with many elements embedded in dirt. The human remains represent a single adult male. The human remains were transferred to the Museum on an unknown date. The date of the site associated with the human remains is unknown. No known individuals were identified. The one associated funerary object is a piece of groundstone.

On an unknown date, human remains representing, at minimum, one individual were removed from the Danna Smith Site (34Ml-7) in McClain County, OK. The human remains included one bone fragment, representing an adult of indeterminate sex. The bone was transferred to the Museum on an unknown date. The date of the site associated with the human remains is unknown. No known individuals were identified. No associated funerary objects are present.

On an unknown date, human remains representing, at minimum, one individual were removed from an unknown location (34Pn0/5) in Pontotoc County, OK. The single bone fragment represented an adult of indeterminate sex and was transferred to the Museum on an unknown date. The date of the site associated with the human remains is unknown. This site is mislabeled as “34Pn015.” No known individuals were identified. No associated funerary objects are present.

On February 23, 1963, human remains representing, at minimum, one individual were removed from the Townsend Site (34Pn-54) in Pontotoc County, OK. The human remains were collected by Dick McWilliams as part of a surface collection from the site, which is located along an old bank of West Buck Creek near Ada, OK. The human remains represent one adult individual, probably male. The human remains were transferred to the Museum on an unknown date. The date of the site associated with the remains is unknown. No known individuals were identified. No associated funerary objects are present.

Determinations Made by the Sam Noble Oklahoma Museum of Natural History

Officials of the Sam Noble Oklahoma Museum of Natural History have determined that:

• Pursuant to 25 U.S.C. 3001(9), the human remains described in this notice are Native American based on a combination of one or more of the following: Osteological evidence, collection history, association with Native American artifacts, and association with prehistoric archeological sites.

• Pursuant to 25 U.S.C. 3001(9), the human remains described in this notice represent the physical remains of 15 individuals of Native American ancestry.

• Pursuant to 25 U.S.C. 3001(3)(A), the 69 objects described in this notice are reasonably believed to have been placed with or near individual human remains at the time of death or later as part of the death rite or ceremony.

• Pursuant to 25 U.S.C. 3001(2), a relationship of shared group identity cannot be reasonably traced between the Native American human remains and associated funerary objects and any present-day Indian tribe.

• According to final judgments of the Indian Claims Commission or the Court of Federal Claims, the land from which the Native American human remains and associated funerary objects were removed is the aboriginal land of the Jena Band of Choctaw Indians, the Mississippi Band of Choctaw Indians, The Chickasaw Nation, The Choctaw Nation of Oklahoma, and the Quapaw Tribe of Indians.

• Treaties, Acts of Congress, or Executive Orders, indicate that the land from which the Native American human remains and associated funerary objects were removed is the aboriginal land of the Jena Band of Choctaw Indians, the Mississippi Band of Choctaw Indians, The Chickasaw Nation, The Choctaw Nation of Oklahoma, and the Quapaw Tribe of Indians.

• Pursuant to 43 CFR 10.11(c)(1), the disposition of the human remains and associated funerary objects may be to the Jena Band of Choctaw Indians, the Mississippi Band of Choctaw Indians, The Chickasaw Nation, The Choctaw Nation of Oklahoma, and the Quapaw Tribe of Indians.

Additional Requestors and Disposition

Representatives of any Indian tribe or Native Hawaiian organization not identified in this notice that wish to request transfer of control of these human remains and associated funerary objects should submit a written request with information in support of the request to Dr. Marc Levine, Assistant Curator of Archaeology, Sam Noble Oklahoma Museum of Natural History, University of Oklahoma, 2401 Chautauqua Avenue, Norman, OK 73072-7029, telephone 405-325-1994, email mlevine@ou.edu, by May 31, 2016. After that date, if no additional requestors have come forward, transfer of control of the human remains and associated funerary objects to the Jena Band of Choctaw Indians, the Mississippi Band of Choctaw Indians, The Chickasaw Nation, The Choctaw Nation of Oklahoma, and the Quapaw Tribe of Indians may proceed.

The Sam Noble Oklahoma Museum of Natural History is responsible for notifying the Chickasaw Nation, Choctaw Nation of Oklahoma, Jena Band of Choctaw Indians, Mississippi Band of Choctaw Indians, and Quapaw Tribe of Indians that this notice has been published.

Dated: April 7, 2016.
Melanie O'Brien,
Manager, National NAGPRA Program.

[FR Doc. 2016-10069 Filed 4-28-16; 8:45 am]

BILLING CODE 4312-50-P